DEPARTMENT OF JUSTICE

[OMB Number 1140-0026]

Agency Information Collection Activities; Proposed eCollection eComments Requested; Revision of a Previously Approved Collection; Report of Theft or Loss—Explosive Materials

AGENCY: Bureau of Alcohol, Tobacco, Firearms and Explosives, Department of Justice.

ACTION: 60-Day notice.

SUMMARY: The Bureau of Alcohol, Tobacco, Firearms and Explosives (ATF), Department of Justice (DOJ), will be submitting the following information collection request to the Office of Management and Budget (OMB) for review and approval in accordance with the Paperwork Reduction Act of 1995.

DATES: Comments are encouraged and will be accepted for 60 days until January 16, 2024.

FOR FURTHER INFORMATION CONTACT: If you have additional comments especially on the estimated public burden or associated response time, suggestions, or need a copy of the proposed information collection instrument with instructions or additional information, contact: John J. Basile, EIPB, either by mail at 3750 Corporal Rd. Huntsville, AL 35898, by email at john.basile@atf.gov; or telephone at 307-287-9200.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Any licensee or permittee who has knowledge of the theft or loss of any explosive materials from his stock shall, within 24 hours of discovery, report the theft or loss by telephoning 1-800-800-3855 (nationwide toll free number) and on the Report of Theft or Loss—Explosives—ATF Form 5400.5, in accordance with the instructions on the form. The information collection (IC) OMB Number1140-0026 is being revised to include material changes to the form, such as added categories that include checkboxes (with a description and example scenarios), instruction clarification, and header revision (to include reference to voluntary reporting of explosives recovered or located).

Overview of This Information Collection

1. Type of Information Collection: Revision of a previously approved collection.

2. The Title of the Form/Collection: Report of Theft or Loss—Explosive Materials.

3. The agency form number, if any, and the applicable component of the Department sponsoring the collection: Form number: ATF Form 5400.5.

Component: Bureau of Alcohol, Tobacco, Firearms and Explosives, U.S. Department of Justice.

4. Affected public who will be asked or required to respond, as well as the obligation to respond: Affected Public: Private Sector—business or other for-profit institutions.

The obligation to respond is: Mandatory per 27 CFR 555.30 (a).

5. An estimate of the total number of respondents and the amount of time estimated for an average respondent to respond: An estimated 130 respondents will utilize this form once annually, and it will take each respondent approximately 1 hour and 48 minutes to complete their responses.

6. An estimate of the total annual burden (in hours) associated with the collection: The estimated annual public burden associated with this collection is 234 hours, which is equal to 130 (total respondents) * 1 (# of response per respondent) *1.8 (1 hour and 48 minutes).

7. An estimate of the total annual cost burden associated with the collection, if applicable: $0.

Total Burden Hours
Activity | Number of respondents | Frequency | Total annual responses | Time per response (minutes) | Total annual burden (hours)
ATF Form 5400.5 | 130 | 1 | 130 | 108 | 234

If additional information is required contact: Darwin Arceo, Department Clearance Officer, United States Department of Justice, Justice Management Division, Policy and Planning Staff, Two Constitution Square, 145 N Street NE, 4W-218, Washington, DC.

Dated: November 8, 2023.
Darwin Arceo,
Department Clearance Officer for PRA, U.S. Department of Justice.

[FR Doc. 2023-25136 Filed 11-14-23; 8:45 am]

BILLING CODE 4410-FY-P